NUCLEAR REGULATORY COMMISSION

[Docket No. 50-339; NRC-2014-0121]

North Anna Power Station, Unit 2

AGENCY: Nuclear Regulatory Commission.

ACTION: License amendment application; withdrawal.

SUMMARY: The U.S. Nuclear Regulatory Commission (NRC) has granted the request of Virginia Electric and Power Company (the licensee) to withdraw its September 10, 2013, application for proposed amendment to Facility Operating License No. NPF-7 for the North Anna Power Station, Unit 2, located in Mineral, Virginia.

ADDRESSES: Please refer to Docket ID NRC-2014-0121 when contacting the NRC about the availability of information regarding this document. You may access publicly-available information related to this action by the following methods:

• Federal Rulemaking Web site: Go to http://www.regulations.gov and search for Docket ID NRC-2014-0121. Address questions about NRC dockets to Carol Gallagher; telephone: 301-492-3668; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The application for the proposed amendment request is available in ADAMS under Accession No. ML13260A256.

• NRC's PDR: You may examine and purchase copies of public documents at the NRC's PDR, Room O1-F21, One White Flint North, 11555 Rockville Pike, Rockville, Maryland 20852.

FOR FURTHER INFORMATION CONTACT: V. Sreenivas, Office of Nuclear Reactor Regulation, U.S. Nuclear Regulatory Commission, Washington, DC 20555; telephone: 301-415-2597; email: V.Sreenivas@nrc.gov.

SUPPLEMENTARY INFORMATION: The proposed license amendment (ADAMS Accession No. ML13260A256) requests the changes to the Technical Specification (TS) 3.8.1, “AC Sources—Operating.” TS 3.8.1 contains Surveillance Requirement (SR) 3.8.1.8, which requires verification of the capability to manually transfer Unit 1 4.16 kV ESF bus AC power sources from the normal offsite circuit to the alternate required offsite circuit and this surveillance is only applicable to Unit 1. Dominion is developing a plant modification to install an alternate offsite power feed to each of the two 4.16 kV ESF buses for Unit 2, such that it will be similar to the Unit 1 design. Therefore, the proposed change would delete Note 1 to SR 3.8.1.8 to remove the limitation that excludes Unit 2 and will be consistent with the verification currently performed for Unit 1.

The Commission had previously issued a Notice of Consideration of Issuance of Amendment published in the Federal Register dated October 29, 2013 (78 FR 64547). However, by letter dated April 16, 2014, the licensee withdrew the proposed change.

For further details with respect to this action, see the application for amendment dated September 10, 2013 (ADAMS Accession No. ML13260A256) and the licensee's letter dated April 16, 2014, which withdrew the application for license amendment (ADAMS Accession No. ML14112A076).

Dated at Rockville, Maryland, this 9th day of May, 2014.
For the Nuclear Regulatory Commission.
V. Sreenivas,
Project Manager, Plant Licensing Branch II-1, Division of Operating Reactor Licensing, Office of Nuclear Reactor Regulation.

[FR Doc. 2014-11775 Filed 5-20-14; 8:45 am]

BILLING CODE 7590-01-P